DEPARTMENT OF HEALTH AND HUMAN SERVICES

Health Resources and Service Administration

Advisory Commission on Childhood Vaccines

AGENCY: Health Resources and Service Administration (HRSA), Department of Health and Human Services (HHS).

ACTION: Notice of Advisory Committee meeting.

SUMMARY: In accordance with the Federal Advisory Committee Act, this notice announces that the Advisory Commission on Childhood Vaccines (ACCV) will hold a public meeting. This meeting will be open to the public.

DATES: Friday, June 15, 2018, from 10:00 a.m. to 2:00 p.m. ET.

ADDRESSES: The meeting is a teleconference and webinar. The conference call-in number is 1-800-988-0218; passcode: 9302948. The webinar link is https://hrsa.connectsolutions.com/accv/. Participants should call and connect 15 minutes prior to the meeting in order for logistics to be set up. If you have never attended an Adobe Connect meeting, please test your connection using the following URL: https://hrsa.connectsolutions.com/common/help/en/support/meeting_test.htm and get a quick overview by following URL: http://www.adobe.com/go/connectpro_overview.

FOR FURTHER INFORMATION CONTACT: Annie Herzog, Principal Staff Liaison, Division of Injury Compensation Programs (DICP), Healthcare Systems Bureau (HSB), HRSA, 5600 Fishers Lane, Room 08N146B, Rockville, Maryland 20857; phone: (301) 443-6593; or email: aherzog@hrsa.gov.

SUPPLEMENTARY INFORMATION:

Background: The ACCV advises the Secretary on the implementation of the Vaccine Injury Compensation Program (VICP). Other activities of the ACCV include: Recommending changes to the Vaccine Injury table, at its own initiative or as the result of the filing of a petition; advising the Secretary on implementing section 2127 of the Public Health Service Act (PHS Act) regarding the need for childhood vaccination products that result in fewer or no significant adverse reactions; surveying federal, state, and local programs and activities related to gathering information on injuries associated with the administration of childhood vaccines, including the adverse reaction reporting requirements of section 2125 (b) of the PHS Act; advising the Secretary on the methods of obtaining, compiling, publishing, and using credible data related to the frequency and severity of adverse reactions associated with childhood vaccines; consulting on the development or revision of Vaccine Information Statements; and recommending to the Director of the National Vaccine Program research related to vaccine injuries which should be conducted to carry out the VICP.

Agenda: During the June 15, 2018, meeting, agenda items may include updates from DICP, Department of Justice (DOJ), National Vaccine Program Office (NVPO), Immunization Safety Office (Centers for Disease Control and Prevention), National Institute of Allergy and Infectious Diseases (National Institutes of Health) and Center for Biologics, Evaluation and Research (Food and Drug Administration). Information about the ACCV, a roster of members, the meeting agenda, as well as past meeting summaries, is located on the ACCV website: http://www.hrsa.gov/advisorycommittees/childhoodvaccines/index.html. Agenda items are subject to change as priorities dictate.

Public Participation: Members of the public will have the opportunity to provide comments. Oral comments will be honored in the order they are requested and may be limited as time allows. Requests to make oral comments or provide written comments to the ACCV should be sent to Annie Herzog by June 5, 2018. Individuals who plan to participate and need special assistance, such as sign language interpretation or other reasonable accommodations, should notify Annie Herzog, using the address and phone number above at least 10 days prior to the meeting.

Amy P. McNulty,
Acting Director, Division of the Executive Secretariat.

[FR Doc. 2018-11298 Filed 5-24-18; 8:45 am]

BILLING CODE 4165-15-P